DEPARTMENT OF ENERGY

Federal Energy Regulatory Commission

[Docket No. CP17-480-000]

Florida Gas Transmission Company, LLC; Notice of Request Under Blanket Authorization

Take notice that on August 2, 2017, Florida Gas Transmission Company, LLC (Florida Gas), 1300 Main Street, Houston, Texas 77002, filed in the above referenced Docket, a prior notice request pursuant to sections 157.205, 157.208, and 157.216 of the Commission's regulations under the Natural Gas Act (NGA) for authorization to abandon approximately 6.7 miles of the 8-inch-diameter Rinker Lateral, associated measurement and regulation station, and appurtenant facilities, all located in Miami-Dade County, Florida (Rinker Facilities Abandonment Project), all as more fully set forth in the application which is on file with the Commission and open to public inspection.

The filing may also be viewed on the web at http://www.ferc.gov using the eLibrary link. Enter the docket number excluding the last three digits in the docket number field to access the document. For assistance, please contact FERC Online Support at FERCOnlineSupport@ferc.gov or toll free at (866) 208-3676, or TTY, contact (202) 502-8659.

Any questions concerning this prior notice request should be directed to Blair Lichtenwalter, Senior Director of Certificates, Florida Gas Transmission Company, LLC, 1300 Main St., Houston, Texas, 77002, or call (713) 989-2605, or fax (713) 989-1205, or via email Blair.Lichtenwalter@energytransfer.com.

Specifically, Florida Gas proposes to abandon in place the Rinker Lateral, which originates downstream of Lateral Line Valve (LLV) 20-90B at Mile Post 914.0 on Florida Gas's mainline and the Rinker Measurement and Regulation Station located at Rinker Portland Cement Corp's plant. Florida Gas also proposes to abandon by removal LLV 20-90B. Florida Gas states that Rinker Lateral and facilities have not been used to provide interruptible or firm transportation in over two years. Florida Gas further states that proposed abandonment would eliminate additional capital and/or operating expenditures which could potentially result in an increased net operating loss for Florida Gas as time goes on.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (www.ferc.gov) under the e-Filing link.

Dated: August 11, 2017.
Kimberly D. Bose,
Secretary.

[FR Doc. 2017-17390 Filed 8-16-17; 8:45 am]

BILLING CODE P6717-01-P